DEPARTMENT OF THE INTERIOR

Office of the Secretary

Invasive Species Advisory Committee

AGENCY: Office of the Secretary, Interior.

ACTION: Notice of Public Meetings of the Invasive Species Advisory Committee.

SUMMARY: Pursuant to the provisions of the Federal Advisory Committee Act, notice is hereby given of meetings of the Invasive Species Advisory Committee (ISAC). Comprised of 30 nonfederal invasive species experts and stakeholders from across the nation, the purpose of ISAC is to provide advice to the National Invasive Species Council (Council), as authorized by Executive Order 13112, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues.

Purpose of Meeting: The meeting will be held on November 12-14, 2014 in San Antonio, Texas, and will focus primarily on the management of invasive species in urban areas, particularly: (1) On-the-ground efforts in the Austin, San Marcos, and San Antonio areas of Texas, which are experiencing rapid growth and developing new ways of addressing the problems invasive species cause to buildings and homes, as well as parks and other public spaces; and, (2) Trans-border cooperation between the U.S. and Mexico on invasive species issues. A copy of the meeting agenda is available on the Web site, www.doi.gov/invasivespecies.

DATES: Meeting of the Invasive Species Advisory Committee: Wednesday, November 12, 2014 and Friday, November 14, 2014; beginning at approximately 8:00 a.m., and ending at approximately 5:00 p.m. each day. Members will be participating in an off-site field tour on Thursday, November 13, 2014. The field tour is closed to the public.

ADDRESSES: Holiday Inn Riverwalk, 217 North Saint Mary's Street, San Antonio, Texas 78205. The general session on November 12, 2014 and November 14, 2014 will be held in the Tango Ballroom.

FOR FURTHER INFORMATION CONTACT: Kelsey Brantley, National Invasive Species Council Program Specialist and ISAC Coordinator, (202) 208-4122; Fax: (202) 208-4118, email: Kelsey_Brantley@ios.doi.gov.

Dated: October 8, 2014.
Christopher P. Dionigi,
Acting Executive Director, National Invasive Species Council.

[FR Doc. 2014-24625 Filed 10-15-14; 8:45 am]

BILLING CODE 4310-RK-P